DEPARTMENT OF ENERGY

Federal Energy Regulatory Commission

Notice of FERC Staff Attendance

| Docket No.
PacifiCorp | ER13-64-000
Deseret Generation & Transmission Cooperative, Inc | ER13-65-000
Northwestern Corporation (Montana) | ER13-67-000
Portland General Electric Company | ER13-68-000
Idaho Power Company | ER13-127-000
Public Service Company of Colorado | ER13-75-000
Terra-Gen Dixie Valley, LLC | ER13-76-000
Tucson Electric Power Company | ER13-77-000
UNS Electric, Inc | ER13-78-000
Public Service Company of New Mexico | ER13-79-000
Arizona Public Service Company | ER13-82-000
El Paso Electric Company | ER13-91-000
Black Hills Power, Inc., et al | ER13-96-000
Black Hills Colorado Electric Utility Company | ER13-97-000
NV Energy, Inc | ER13-105-000
Cheyenne Light, Fuel and Power Company | ER13-120-000
Avista Corporation | ER13-93-000
Avista Corporation | ER13-94-000
Puget Sound Energy | ER13-98-000
Puget Sound Energy | ER13-99-000
Bonneville Power Administration | NJ13-1-000
California Independent System Operator Corporation | ER13-103-000

The Federal Energy Regulatory Commission (Commission) hereby gives notice that on November 16, 2012, members of its staff will attend a meeting conducted by representatives of WestConnect, ColumbiaGrid, Northern Tier Transmission Group, and the California Independent System Operator regarding the interregional coordination requirements established by Order No. 1000. Information regarding this meeting, including the meeting agenda, may be found at www.nttg.biz.

The meeting is open to all stakeholders and Commission staff's attendance is part of the Commission's ongoing outreach efforts. The meeting may discuss matters at issue in the above captioned dockets.

For further information, contact Saeed Farrokhpay at saeed.farrokhpay@ferc.gov.

Dated: November 13, 2012.
Kimberly D. Bose,
Secretary.

[FR Doc. 2012-28010 Filed 11-16-12; 8:45 am]

BILLING CODE 6717-01-P